DEPARTMENT OF THE INTERIOR

Bureau of Indian Affairs

Roll Submitted by the Little Traverse Bay Band of Odawa Indians

AGENCY: Bureau of Indian Affairs, Interior.

ACTION: Notice.

SUMMARY: Pursuant to section 9(b)(2) of Public Law 103-324, 108 Stat. 2156, as amended, notice is given of receipt of the membership list of the Little Traverse Bay Band of Odawa Indians, containing 2,239 names of tribal members.

FOR FURTHER INFORMATION CONTACT: Anne E. Bolton, Field Representative, Michigan Field Office, 2901.5 I-75 Business Spur, Sault Ste. Marie, Michigan 49783, Telephone number (906) 632-6809.

SUPPLEMENTARY INFORMATION: This notice is published in the exercise of authority delegated by the Secretary of the Interior to the Assistant Secretary—Indian Affairs by 209 DM 8.1.

The membership roll was received at the Bureau of Indian Affairs, Michigan Agency, on May 2, 1996. After review, the following corrections to the roll were made: Six names that were left off the initial roll were added, four names were removed due to being denied membership, nine people were removed due to membership in another tribe, two names were removed due to relinquishment prior to May 2, 1996 and three people were removed due to a change in the enrollment date. The corrected list containing the names of 2,239 tribal members was approved by Tribal Council Resolution # 072102-02 and received in the Michigan Field Office on August 1, 2002.

Dated: March 13, 2003.
Aurene M. Martin,
Acting Assistant Secretary—Indian Affairs.

[FR Doc. 03-7619 Filed 3-28-03; 8:45 am]

BILLING CODE 4310-4J-P